DEPARTMENT OF COMMERCE

National Oceanic and Atmospheric Administration

RIN 0648-XE146

North Pacific Fishery Management Council; Public Meeting

AGENCY: National Marine Fisheries Service (NMFS), National Oceanic and Atmospheric Administration (NOAA), Commerce.

ACTION: Notice of meeting.

SUMMARY: The North Pacific Fishery Management Council (Council) Observer Advisory Committee (OAC) will meet September 17th-18th, 2015.

DATES: The meeting will be held on September 17th from 8:30 a.m. to 5 p.m. and on September 18th from 8:30 a.m. to 1 p.m.

ADDRESSES: The meeting will be at the Mountaineers Club, 7700 Sand Point Way NE., Seattle, WA 98115. Please call (907) 271-2896.

Council address: North Pacific Fishery Management Council, 605 W. 4th Ave., Suite 306, Anchorage, AK 99501-2252; telephone (907)271-2809.

FOR FURTHER INFORMATION CONTACT: Diana Evans, Council staff; telephone: 907-271-2809.

SUPPLEMENTARY INFORMATION:

Agenda

Thursday, September 17th and Friday, September 18th, 2015

The agenda will include (a) introductions, review and approval of agenda (b) draft 2016 Observer Annual Deployment Plan, and (c) other analytical projects. The Agenda is subject to change, and the latest version will be posted at http://www.npfmc.org/.

Special Accommodations

These meetings are physically accessible to people with disabilities. Requests for sign language interpretation or other auxiliary aids should be directed to Shannon Gleason at 907-271-2809 at least 7 working days prior to the meeting date.

Dated: August 27, 2015.
Tracey L. Thompson,
Acting Deputy Director, Office of Sustainable Fisheries, National Marine Fisheries Service.

[FR Doc. 2015-21587 Filed 8-31-15; 8:45 am]

BILLING CODE 3510-22-P